DEPARTMENT OF COMMERCE

National Oceanic and Atmospheric Administration

RIN 0648-XD221

New England Fishery Management Council (NEFMC); Public Meetings

AGENCY: National Marine Fisheries Service (NMFS), National Oceanic and Atmospheric Administration (NOAA), Commerce.

ACTION: Notice of public meeting.

SUMMARY: The New England Fishery Management Council (Council) will hold a 3-day meeting on April 22-24, 2014 to consider actions affecting New England fisheries in the exclusive economic zone (EEZ).

DATES: The meeting will be held on Tuesday, Wednesday and Thursday, starting at 9:30 a.m. on Tuesday, April 22; and 8:30 a.m. on Wednesday and Thursday, April 23 and 24, 2014.

ADDRESSES: The meeting will be held at the Hilton Hotel, 20 Coogan Boulevard, Mystic, CT 06355-1900. The telephone number is (860) 572-0731. Information can be found online at www.hiltonmystic.com/.

Council Address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, April 22, 2014

The Council meeting will begin with introductions and brief reports from the NEFMC Chairman and Executive Director, the NOAA Fisheries Regional Administrator, the Northeast Fisheries Science Center and Mid-Atlantic Fishery Management Council liaisons, NOAA General Counsel and NOAA Law Enforcement, and representatives of the Atlantic States Marine Fisheries Commission and the U.S. Coast Guard. A report from the Council's Scientific and Statistical Committee (SSC) Chairman will follow. Topics to be discussed include committee comments on the proposed NOAA stock assessment prioritization process, recommendations on the use of multiple models in assessments and the development of catch advice, and a summary of the SSC's discussion on the role of social scientists on the SSC. Following a lunch break, the Council Chairman will provide a briefing on the recent East Coast Climate Change and Fisheries Governance Workshop. The Northeast Regional Planning Body will report on its activities to coordinate and manage the range of activities that occur in the marine and coastal environment in New England waters. The NEFMC Herring Committee will ask the Council to take final action on Framework Adjustment 4 to the Atlantic Herring Fishery Management Plan (FMP). During the discussion, the NEFMC will consider alternatives to address several measures disapproved in Herring Amendment 5 (dealer weighing requirements and measures to address net slippage). The discussion also will include input from the Herring Committee and its Advisory Panel, and the Council's Enforcement Committee.

Wednesday, April 23, 2014

During the second day of the meeting, the Enforcement Committee will provide its comments on NOAA Fisheries revised penalty schedule for fishery violations and possibly review any comments on a proposed rule about revised trawl gear stowage provisions. A presentation will follow that will detail Council and Greater Northeast Regional Fisheries Office staff recommendations on improvements to the preparation of fishery management actions. The Northeast Fisheries Science Center's Science and Research Director will present information on costs associated with the Northeast Observer Program. Prior to a lunch break, the Council intends to give its approval for an omnibus amendment that would modify New England and Mid-Atlantic FMPs with respect to the use of standardized bycatch reporting methodology.

Following the break, there will be an opportunity for the public to provide brief comments on items that are relevant to Council business but are otherwise not listed on the published agenda. The Council will review and discuss a revised timeline and process to complete an amendment that will address monitoring to be funded by the fishing industry. The last two agenda items for this day will include a presentation on electronic monitoring and other technologies with potential for use in Northeast fisheries. During the second item, the Council's Research Steering Committee will discuss and request input on and approval of recommendations on research questions that address groundfish fishery information needs.

Thursday, April 24, 2014

Council actions on the final day of the meeting will focus on the Northeast Multispecies (Groundfish) FMP. As part of the development of Amendment 18, the Council will consider alternatives to address fleet diversity and accumulation limits in the groundfish fishery and could approve the range of alternatives to analyzed in the associated Draft Environmental Impact Statement (DEIS). During discussions on Framework Adjustment 52, an action to revise the commercial groundfish fishery accountability measures for southern and northern windowpane flounder stocks, the NEMFC may approve the range of alternatives to be analyzed in a DEIS for this action. The Council also may consider an emergency action request to implement an experimental cooperative research program.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: April 1, 2014.
Tracey L. Thompson,
Acting Deputy Director, Office of Sustainable Fisheries, National Marine Fisheries Service.

[FR Doc. 2014-07527 Filed 4-3-14; 8:45 am]

BILLING CODE 3510-22-P